DEPARTMENT OF HOMELAND SECURITY

Federal Emergency Management Agency

[Docket ID FEMA-2022-0002; Internal Agency Docket No. FEMA-B-2224]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona: Santa Cruz | Unincorporated Areas of Santa Cruz County (21-09-1967P) | The Honorable Manuel Ruiz, Chairman, Board of Supervisors, Santa Cruz County, 2150 North Congress Drive #119, Nogales, AZ 85621 | Santa Cruz County Flood Control District, Gabilondo-Zehentner Building, 275 Rio Rico Drive, Rio Rico, AZ 85648 | https://msc.fema.gov/portal/advanceSearch | May 31, 2022 | 040090
California:
Fresno | City of Clovis (21-09-0911P) | The Honorable Jose Flores, Mayor, City of Clovis, 1033 5th Street, Clovis, CA 93612 | City Clerk's Office, Civic Center, 1033 5th Street, Clovis, CA 93612 | https://msc.fema.gov/portal/advanceSearch | May 23, 2022 | 060044
Monterey | City of Seaside (21-09-1503P) | The Honorable Ian Oglesby, Mayor, City of Seaside, 440 Harcourt Avenue, Seaside, CA 93955 | Public Works Department, 610 Olympia Avenue, Seaside, CA 93955 | https://msc.fema.gov/portal/advanceSearch | Jun. 6, 2022 | 060203
Riverside | City of Banning (21-09-0855P) | The Honorable Kyle Pingree, Mayor, City of Banning, 99 East Ramsey Street, Banning, CA 92220 | Public Works Department, 99 East Ramsey Street, Banning, CA 92220 | https://msc.fema.gov/portal/advanceSearch | May 31, 2022 | 060246
San Diego | City of San Diego (21-09-1675P) | The Honorable Todd Gloria, Mayor, City of San Diego, 202 C Street, 11th Floor, San Diego, CA 92101 | Development Services Department, 1222 1st Avenue, MS 301, San Diego, CA 92101 | https://msc.fema.gov/portal/advanceSearch | Jun. 30, 2022 | 060295
Illinois:
Cook | Village of Wheeling (21-05-4442P) | The Honorable Patrick Horcher, Village President, Village of Wheeling, 2 Community Boulevard, Wheeling, IL 60090 | Village Hall, Community Development Engineering Division, 2 Community Boulevard, Wheeling, IL 60090 | https://msc.fema.gov/portal/advanceSearch | Jun. 23, 2022 | 170173
Putnam | Village of Hennepin (22-05-0122P) | The Honorable Kevin J. Coleman, Mayor, Village of Hennepin, 627 East High Street, Hennepin, IL 61327 | Village Hall, 627 East High Street, Hennepin, IL 61327 | https://msc.fema.gov/portal/advanceSearch | Jun. 23, 2022 | 170570
Iowa:
Iowa | City of Marengo (21-07-1041P) | The Honorable Adam Rabe, Mayor, City of Marengo, P.O. Box 245, Marengo, IA 52301 | City Hall, 153 East Main Street, Marengo, IA 52301 | https://msc.fema.gov/portal/advanceSearch | Mar. 10, 2022 | 190157
Iowa | Unincorporated Areas of Iowa County (21-07-1041P) | The Honorable John Gahring, Chair, Board of Supervisors, Iowa County, 970 Court Avenue, Marengo, IA 52301 | Iowa County, Auditor's Office, 970 Court Avenue, Marengo, IA 52301 | https://msc.fema.gov/portal/advanceSearch | Mar. 10, 2022 | 190878
Louisiana: Calcasieu Parish | Unincorporated Areas of Calcasieu Parish (21-06-1326P) | Mr. Bryan C. Beam, Parish Administrator Calcasieu Parish, 1015 Pithon Street, 2nd Floor, Lake Charles, LA 70602 | Calcasieu Parish, Planning and Development Department, 901 Lake Shore Drive, Lake Charles, LA 70601 | https://msc.fema.gov/portal/advanceSearch | May 23, 2022 | 220037
Michigan:
Washtenaw | Township of Dexter (22-05-0189P) | Ms. Diane Ratkovich, Supervisor, Township of Dexter, 6880 Dexter-Pinckney Road, Dexter, MI 48130 | Township Hall, 6880 Dexter-Pinckney Road, Dexter, MI 48130 | https://msc.fema.gov/portal/advanceSearch | May 6, 2022 | 260536
Washtenaw | Township of Northfield (22-05-0189P) | Mr. Kenneth Dignan III, Supervisor, Township of Northfield, 8350 Main Street, Whitmore Lake, MI 48189 | Northfield Township Hall, 75 Barker Road, Whitmore Lake, MI 48189 | https://msc.fema.gov/portal/advanceSearch | May 6, 2022 | 260635

[FR Doc. 2022-05923 Filed 3-18-22; 8:45 am]

BILLING CODE 9110-12-P